DEPARTMENT OF THE INTERIOR

National Park Service

Notice of Intent to Repatriate a Cultural Item: Bernice Pauahi Bishop Museum, Honolulu, HI

AGENCY: National Park Service, Interior.

ACTION: Notice.

Notice is here given in accordance with the Native American Graves Protection and Repatriation Act (NAGPRA), 25 U.S.C. 3005, of the intent to repatriate a cultural item in the possession of the Bernice Pauahi Bishop Museum, Honolulu, HI, that meets the definition of “unassociated funerary object” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

In 1937, Emma Turnbull removed a cultural item in the sands of a West Molokai beach, Molokai Island, HI. The cultural item is one rock oyster pendant. It is believed that Ms. Turnbull most likely found the pendant in an area known as Mo'omomi. In 1976, Ms. Turnbull's daughter, Mrs. J.D. Korsund, wrote to the Bernice Pauahi Bishop Museum requesting information on the pendant and mentioned that the pendant was found in an area that had human remains. In 1985, Ms. Turnbull sent a letter to the Bernice Pauahi Bishop Museum stating that she was sending the pendant as a gift to the museum and that there were many bones in the area where she picked up the pendant. In June of that same year, Ms. Turnbull signed the deed of gift for the pendant to the Bernice Pauahi Bishop Museum. The Bernice Pauahi Bishop Museum has classified the pendant as a “niho palaoa” due to its similarity in shape to other Hawaiian pendants usually made from animal ivory or whale teeth.

Consultation was held with the representatives of the Hui Malama I Na Kupuna O Hawai'i Nei, Maui/Lanai Island Burial Council, Molokai Island Burial Council, Na Lei Ali'i Kawananakoa, and Royal Hawaiian Academy of Traditional Arts. Based on Ms. Turnbull's description that the pendant was found in an area with evidence of burials, it was concluded during consultation that this pendant may be classified as an unassociated funerary object.

Officials of the Bernice Pauahi Bishop Museum have determined that, pursuant to 25 U.S.C. 3001 (3)(B), the one cultural item described above is reasonably believed to have been placed with or near individual human remains at the time of death or later as part of the death rite or ceremony and is believed, by a preponderance of the evidence, to have been removed from a specific burial site of a Native Hawaiian individual. Officials of the Bernice Pauahi Bishop Museum also have determined that, pursuant to 25 U.S.C. 3001 (2), there is a relationship of shared group identity that can be reasonably traced between the unassociated funerary object and the Hui Malama I Na Kupuna O Hawai'i Nei, Na Lei Ali'i Kawananakoa, and Royal Hawaiian Academy of Traditional Arts.

Representatives of any other Indian tribe or Native Hawaiian organization that believes itself to be culturally affiliated with the unassociated funerary object should contact Betty Kam, Bernice Pauahi Bishop Museum, 1525 Bernice Street, Honolulu, HI, 96817, telephone (808) 848-4144, before September 2, 2005. Repatriation of the unassociated funerary object to Hui Malama I Na Kupuna O Hawai'i Nei, Na Lei Ali'i Kawananakoa, and Royal Hawaiian Academy of Traditional Arts may proceed after that date if no additional claimants come forward.

Bernice Pauahi Bishop Museum is responsible for notifying the Hui Malama I Na Kupuna O Hawai'i Nei, Maui/Lanai Island Burial Council, Molokai Island Burial Council, Na Lei Ali'i Kawananakoa, and Royal Hawaiian Academy of Traditional Arts that this notice has been published.

Dated: July 5, 2005
Sherry Hutt,
Manager, National NAGPRA Program.

[FR Doc. 05-15323 Filed 8-2-05; 8:45 am]

BILLING CODE 4312-50-S